NATIONAL SCIENCE FOUNDATION

Advisory Committee For Biological Sciences; Notice of Meeting

In accordance with the Federal Advisory Committee Act (Pub. L., 92-463, as amended), the National Science Foundation announces the following meeting:

Name: Advisory Committee for Biological Sciences (BIO) #1110.

Date and Time: September 10, 2009—8:30 a.m.-5 p.m.,September 11, 2009—8:30 a.m.-3 p.m.

Place: National Science Foundation, 4201 Wilson Blvd., Arlington, VA 22230, Room 375.

Type of Meeting: Open.

Contact Person: Dr. Joann Roskoski, Executive Officer, Biological Sciences, Room 605, National Science Foundation, 4201 Wilson Boulevard, Arlington, VA 22230; Tel No.: (703) 292-8400.

Minutes: May be obtained from the contact person listed above.

Purpose of Meeting: The Advisory Committee for BIO provides advice, recommendations, and oversight concerning major program emphases, directions, and goals for the research-related activities of the divisions that make up BIO.

Agenda:

• Assistant Director, BIO reports on the American Recovery and Reinvestment Act and FY'09 Budget.

• Undergraduate Education in Biology.

• Environmental Research and Education Report.

• National Ecological Observatory Network Report.

Dated: August 11, 2009.
Susanne Bolton,
Committee Management Officer.

[FR Doc. E9-19475 Filed 8-13-09; 8:45 am]

BILLING CODE 7555-01-P